DEPARTMENT OF HOUSING AND URBAN DEVELOPMENT

[Docket No. FR-5841-N-01]

60-Day Notice of Proposed Information Collection: Certification of Consistency With Sustainable Communities Planning and Implementation

AGENCY: Office of Strategic Planning and Management, Grants Management and Oversight Division, HUD.

ACTION: Notice of Proposed Information Collection.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: June 29, 2015.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-3400 (this is not a toll-free number) or email at Colette.Pollard@hud.gov for a copy of the proposed forms or other available information. Persons with hearing or speech impairments may access this number through TTY by calling the toll-free Federal Relay Service at (800) 877-8339.

FOR FURTHER INFORMATION CONTACT: Colette Pollard, Reports Management Officer, QDAM, Department of Housing and Urban Development, 451 7th Street SW., Washington, DC 20410; email Colette Pollard at Colette.Pollard@hud.gov or telephone 202-402-3400. This is not a toll-free number. Persons with hearing or speech impairments may access this number through TTY by calling the toll-free Federal Relay Service at (800) 877-8339. Copies of available documents submitted to OMB may be obtained from Ms. Pollard.

SUPPLEMENTARY INFORMATION: This notice informs the public that HUD is seeking approval from OMB for the information collection described in Section A.

A. Overview of Information Collection

Title of Information Collection: Certification of Consistency and Nexus between Activities Proposed by the Applicant with Livability Principles Advanced in Preferred Sustainability Status Communities.

OMB Approval Number: 2535-0121.

Type of Request: Extension of currently approved collection.

Form Number: HUD-2995.

Description of the need for the information and proposed use: HUD seeks grantees that envision and work toward sustainable communities, and provides a number of strategies to do so. To receive points for this policy priority, applicants must go beyond the basic minimum requirements of the NOFA to which they are applying, and must commit to incorporate into their proposed activities the appropriate Livability Principles described by the Partnership for Sustainable Communities, which includes HUD, the Department of Transportation, and the Environmental Protection Agency. These activities include: metropolitan regional plans, neighborhood plans, infrastructure investments, site plans, or architectural plans, so that resulting development or reuse of property takes into account the impacts of the development on the community and the metropolitan region, consistent with sustainable development as expressed in the Livability Principles, as follows:

(1) Provide More Transportation Choices.

(2) Promote equitable, affordable housing.

(3) Enhance Economic Competitiveness.

(4) Support Existing Communities.

(5) Coordinate Policies and Leverage Investment.

(6) Value Communities and Neighborhoods.

Respondents 11,000.

Number of respondents | Frequency of responses | Number of responses | Estimated average time (seconds) | Estimated annual burden
6,540 | 1 (60%) | 6540 | 60 | 6540 = 109 minutes.
60 new applicants | 1 | 60 | 60 | 60 seconds = 1 minute.
4,630 | 1 (40%) | 4360 | 60 | 4360 = 73 hours.
40 new applicants | 1 | 40 | 60 | 67 seconds = 1 minute 7 seconds.
Total |  | 11,000 |  | 183 hours.

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Dated: April 21, 2015.
Julie D. Hopkins,
Director, Grants Management and Oversight Division.

[FR Doc. 2015-09770 Filed 4-27-15; 8:45 am]

BILLING CODE 4210-67-P